DEPARTMENT OF ENERGY

Federal Energy Regulatory Commission

[Project No. 2030-141]

Portland General Electric Company; Notice of Application and Soliciting Comments, Motions To Intervene, and Protests

March 31, 2008.

Take notice that the following application has been filed with the Commission and is available for public inspection:

a. Application Type: Amendment of Project License.

b. Project No.: 2030-141.

c. Date Filed: March 20, 2008.

d. Applicant: Portland General Electric Company and the Confederated Tribes of the Warm Springs Reservation of Oregon (CTWS).

e. Name of Project: Pelton Round Butte Hydroelectric Project.

f. Location: The project is located on the Deschutes River in Jefferson County, Oregon. The project occupies 3,503.74 acres of federal and tribal lands administered by the U.S. Forest Service (FS), U.S. Bureau of Land Management, and U.S. Bureau of Indian Affairs.

g. Filed Pursuant to: Federal Power Act, 16 U.S.C. 791(a)-825(r).

h. Applicant Contact: Ms. Julie A. Keil, Director of Hydro Licensing, Portland General Electric Company, 121 SW Salmon, Portland, OR 97204, (503) 464-8864.

i. FERC Contact: Any questions on this notice should be addressed to Christopher Yeakel at (202) 502-8132, or by e-mail: christopher.yeakel@ferc.gov.

j. Deadline for filing comments and/or motions: 30 days from the date of this notice.

All documents (original and eight copies) should be filed with: Kimberly D. Bose, Secretary, Federal Energy Regulatory Commission, DHAC, PJ-12.1, 888 First Street, NE., Washington, DC 20426. Please include the project number (p-2030-141) on any comments or motions filed. Comments, protests and interventions may be filed electronically via the Internet in lieu of paper. See, 18 CFR 385.2001(a)(1)(iii) and the instructions on the Commission's Web site under the “e-Filing” link. The Commission strongly encourages electronic filings.

k. Description of Proposal: The licensees propose to amend the approved Recreation Resources Implementation Plan (RRIP) pursuant to article 424 of the project license by modifying the schedule and revising those measures outlined in table 1 of the RRIP. The proposed modifications consist of the addition, deletion, and postponement of various measures determined by the Recreation Resources Working Group to address resource concerns and evolving recreation needs. The specific proposed changes are detailed in the licensees' annual report pursuant to article 424 filed on March 20, 2008, and pertain to Cove Palisades State Park, Street Creek Boat Launch, Perry South and Monty Campgrounds, Pelton Bark, and Lake Billy Chinook. Proposed changes at Cove Palisades State Park include postponing of road repairs, installing additional parking, lawn areas, and a restroom, and eliminating a new trail segment to Willow Creek from the Canyon Rim Trail and a boat-in camping area. Proposed changes at Street Creek Boat Launch include the eliminating a new restroom and courtesy dock, delaying installation of additional gravel parking, and adding a measure to develop an operation and maintenance agreement with the FS for portable facilities that will be provided if and when the Perry South boat ramp is closed.

l. This filing is available for review at the Commission in the Public Reference Room or may be viewed on the Commission's Web site at http://www.ferc.gov using the “eLibrary” link. Enter the docket number excluding the last three digits in the docket number field to access the document. For assistance, contact FERC Online Support at FERCOnlineSupport@ferc.gov or call toll-free 1-866-208-3676, or for TTY, call (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E8-7285 Filed 4-7-08; 8:45 am]

BILLING CODE 6717-01-P